ENVIRONMENTAL PROTECTION AGENCY

40 CFR Part 98

[EPA-HQ-OAR-2011-0028; FRL-9845-6]

RIN 2060-AR61

Greenhouse Gas Reporting Program: Final Amendments and Confidentiality Determinations for Subpart I

Correction

In rule document 2013-23804 appearing on pages 68162 through 68238 in the issue of Wednesday, November 13, 2013, make the following corrections.

1. On page 68203, Equation I-8 is corrected as set forth below.

§ 98.93 Calculating GHG emissions [Corrected]

2. On page 68205, Equation I-15 is corrected as set forth below.

3. On page 68209, Equation I-23 is corrected as set forth below.

[FR Doc. C1-2013-23804 Filed 5-5-14; 8:45 am]

BILLING CODE 1505-01-D